DEPARTMENT OF DEFENSE

Department of the Navy

Notice of Intent To Grant Exclusive Patent License; AmberWave Systems Corporation

AGENCY: Department of the Navy, DoD.

ACTION: Notice; revision.

SUMMARY: The Department of the Navy published a document in the Federal Register on August 6, 2009, announcing the intent to grant to AmberWave Systems Corporation, a revocable, nonassignable, exclusive license. The scope of the intent to license has been revised.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

Need for Revision

In the Federal Register of August 6, 2009, in DOCID: fr06au09-45, make the following revision:

1. In the first column, on page 39308, revise the SUMMARY caption to read as follows:

“SUMMARY: The Department of the Navy hereby gives notice of its intent to grant to AmberWave Systems Corporation, a revocable, nonassignable, exclusive license to practice in the field of use of substrates for laser diodes, light emitting diodes, radio frequency power amplifiers, radio frequency power transistor devices, and power devices and their use for the fabrication of laser diodes, light emitting laser diodes, light emitting diodes, radio frequency power amplifiers, power transistor devices, and power devices in the United States, the Government-owned inventions described in U.S. Patent No. 6,323,108: Fabrication of Ultra-Thin Bonded Semiconductor Layers, Navy Case No. 78,980.//U.S. Patent No. 6,328,796: Single Crystal Material on Non-Single Crystalline Substrate, Navy Case No. 78,978.//U.S. Patent No. 6,497,763: Electronic Device with Composite Substrate, Navy Case No. 82,672.//U.S. Patent No. 6,593,212: Method for Making Electro-Optical Devices Using a Hydrogen Ion Splitting Technique, Navy Case No. 79,639.//U.S. Patent No. 7,358,152: Wafer Bonding of Thinned Electronic Materials and Circuits to High Performance Substrate, Navy Case No. 84,023.//U.S. Patent No. 7,535,100: Wafer Bonding of Thinned Electronic Materials and Circuits to High Performance Substrates, Navy Case No. 84,023 and any continuations, divisionals or re-issues thereof.”

DATES: Anyone wishing to object to the grant of this license must file written objections along with supporting evidence, if any, not later than June 17, 2010.

Dated: May 27, 2010.
L.R. Almand,
Office of the Judge Advocate General, U.S. Navy, Federal Register Liaison Officer.

[FR Doc. 2010-13283 Filed 6-1-10; 8:45 am]

BILLING CODE 3810-FF-P